DEPARTMENT OF TRANSPORTATION

Federal Aviation Administration

14 CFR Part 39

[Docket No. FAA-2012-0534; Directorate Identifier 2012-CE-015-AD; Amendment 39-17053; AD 2012-10-04]

RIN 2120-AA64

Airworthiness Directives; Cessna Aircraft Company Airplanes

AGENCY: Federal Aviation Administration (FAA), DOT.

ACTION: Final rule; request for comments.

SUMMARY: We are adopting a new airworthiness directive (AD) for certain Cessna Aircraft Company Models 210G, T210G, 210H, T210H, 210J, T210J, 210K, T210K, 210L, T210L, 210M, T210M, 210N, T210N, P210N, 210R, T210R, and P210R airplanes. This AD requires an inspection(s) of the left and right wing lower main spar caps for cracks and either replacing cracked wing lower main spar caps, wing spars, or wings (as applicable) with serviceable spar caps, spars, or wings that are found free of cracks or incorporating an FAA-approved modification. This AD also requires reporting the results of the inspections to the FAA. This AD was prompted by reports of cracks found in the wing lower main spar caps on the above-referenced airplanes with cantilever metal wings. We are issuing this AD to correct the unsafe condition on these products.

DATES: This AD is effective June 5, 2012.

The Director of the Federal Register approved the incorporation by reference of a certain publication listed in the AD as of June 5, 2012.

We must receive comments on this AD by July 5, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Cessna Aircraft Company, Customer Support Service, P.O. Box 7706, Wichita, Kansas 67277; telephone: (316) 517-5800; fax (316) 517-7271; Internet: www.cessnasupport.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Gary D. Park, Aerospace Engineer, Wichita Aircraft Certification Office, (ACO), FAA, 1801 Airport Road, Wichita, KS 67209; phone: (316) 946-4123; fax: (316) 946-4107; email: WICHITA-COS@FAA.GOV.

SUPPLEMENTARY INFORMATION:

Discussion

We received reports of cracks found in the wing lower main spar caps on Cessna Aircraft Company Models 210G, T210G, 210H, T210H, 210J, T210J, 210K, T210K, 210L, T210L, 210M, T210M, 210N, T210N, P210N, 210R, T210R, and P210R airplanes with cantilever metal wings. The reports include a wing lower main spar cap that was completely severed with the skin split. This condition, if not corrected, could result in structural failure of the wing with consequent loss of control.

Relevant Service Information

We reviewed Cessna Aircraft Company Single Engine Service Letter SEL-57-01, Revision 1, dated May 9, 2012. The service letter describes procedures for visually inspecting the right and left lower main spar caps for cracks and replacing the spar cap, wing spar, or wing, as applicable.

FAA's Determination

We are issuing this AD because we evaluated all the relevant information and determined the unsafe condition described previously is likely to exist or develop in other products of the same type design.

AD Requirements

This AD requires a one-time internal (for all airplanes) and external (for certain airplanes) visual inspection of the left and right wing lower main spar caps for cracks and either replacing cracked wing lower main spar caps, wing spars, or wings, or incorporating an FAA-approved modification. This AD also requires reporting the results of the inspections to the FAA, Wichita ACO.

Interim Action

We consider this AD interim action. We are requiring inspection(s) of the left and right wing lower main spar caps with a report to the FAA of the results. We will work with the type certificate holder to evaluate that information to determine repetitive inspection intervals and subsequent terminating action. Based on this evaluation, we may initiate further rulemaking action to address the unsafe condition identified in this AD.

FAA's Justification and Determination of the Effective Date

An unsafe condition exists that requires the immediate adoption of this AD. The FAA has found that the risk to the flying public justifies waiving notice and comment prior to adoption of this rule because cracks in the wing lower main spar caps could result in structural failure of the wing during flight with consequent loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-0534 and Directorate Identifier 2012-CE-015-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 3,665 airplanes of U.S. registry.

We estimate the following costs to comply with this AD:

Estimated Costs
Action | Labor cost | Parts cost | Cost per product | Cost on U.S. operators
Internal and external inspection of the left and right wing lower main spar caps for cracks | From 3 to 6 work-hours × $85 per hour = From $255 to $510 | Not applicable | From $255 to $510 | From $934,575 to $1,869,150.

Currently, there is no FAA-approved modification for a cracked wing lower main spar cap. If cracks are found during the inspections required by this AD, further flight is prohibited until an FAA-approved modification is incorporated or the cracked wing lower main spar cap is replaced with a serviceable spar cap, wing spar, or wing (as applicable) if one is available. The FAA does not have availability and cost information on serviceable spar caps, wing spars, or wings. Therefore, at this time, the FAA has no way of determining any on-condition costs associated with replacing or modifying cracked wing lower main spar caps.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-10-04 Cessna Aircraft Company (Cessna): Amendment 39-17053; Docket No. FAA-2012-0534; Directorate Identifier 2012-CE-015-AD.

(a) Effective Date

This AD is effective June 5, 2012.

(b) Affected ADs

None.

(c) Applicability

This AD applies to the following Cessna model airplanes listed in paragraphs (c)(1) through (c)(13) of this AD, certificated in any category:

(1) 210G: Serial numbers (S/Ns) 21058819 through 21058936,

(2) T210G: S/Ns T210-0198 through T210-0307,

(3) 210H: S/Ns 21058937 through 21059061,

(4) T210H: S/Ns T210-0308 through T210-0392,

(5) 210J: S/Ns 21059062 through 21059199,

(6) T210J: S/Ns 21058140, and T210-0393 through T210-0454,

(7) 210K and T210K: S/Ns 21059200 through 21059502,

(8) 210L and T210L: S/Ns 21059503 through 21061041, and 21061043 through 21061573,

(9) 210M and T210M: S/Ns 21061042, 21061574 through 21062954,

(10) 210N and T210N: S/Ns 21062955 through 21064897,

(11) P210N: S/Ns P21000001 through P21000834,

(12) 210R and T210R: S/Ns 21064898 through 21065009, and

(13) P210R: S/Ns P21000835 through P21000874.

(d) Subject

Joint Aircraft System Component (JASC)/Air Transport Association (ATA) of America Code 57, Wings.

(e) Unsafe Condition

This AD was prompted by reports of cracks found in the wing lower main spar caps on the affected airplanes with cantilever metal wings. We are issuing this AD to prevent structural failure of the wing with consequent loss of control.

(f) Compliance

Comply with this AD within the compliance times specified, unless already done.

(g) Inspection of the Left Wing and the Right Wing

(1) For airplanes with 10,000 hours time-in-service (TIS) or more as of June 5, 2012, (the effective date of this AD), do the following in accordance with Cessna Single Engine Service Letter SEL-57-01, Revision 1, dated May 9, 2012:

(i) Before further flight after June 5, 2012 (the effective date of this AD), do an external visual inspection of the outer skin underneath the main spar cap fitting between wing station (WS) 25.25 and WS 45.00 for cracks.

(ii) If no cracks are found during the inspection required in paragraph (g)(1)(i) of this AD, within the next 5 hours TIS after June 5, 2012 (the effective date of this AD), do an internal visual inspection of the wing lower main spar caps between WS 25.25 and WS 45.00 for cracks.

(2) For airplanes with 5,000 hours TIS or more, but less than 10,000 hours TIS as of June 5, 2012 (the effective date of this AD), within the next 25 hours TIS after June 5, 2012 (the effective date of this AD), do an internal visual inspection of the wing lower main spar caps between WS 25.25 and WS 45.00 for cracks in accordance with Cessna Single Engine Service Letter SEL-57-01, Revision 1, dated May 9, 2012.

(3) For airplanes with less than 5,000 TIS as of June 5, 2012 (the effective date of this AD), when the airplane reaches 5,000 hours TIS or within the next 25 hours TIS after June 5, 2012 (the effective date of this AD), whichever occurs later, do an internal visual inspection of the wing lower main spar caps between WS 25.25 and WS 45.00 for cracks in accordance with Cessna Single Engine Service Letter SEL-57-01, Revision 1, dated May 9, 2012.

(h) Corrective Action

If cracks are found during the inspections required in paragraphs (g)(1)(i), (g)(1)(ii), (g)(2), or (g)(3) of this AD, before further flight after the inspection in which cracks are found, either replace the cracked part (spar cap, wing spar, or wing, as applicable) with a serviceable part that is found free of cracks or modify the spar cap, wing spar, or wing (as applicable) following a procedure approved for this AD by the FAA, Wichita Aircraft Certification Office (ACO).

(i) Reporting Requirement

Within 10 days after each inspection or 10 days after June 5, 2012 (the effective date of this AD), whichever occurs later, report the results of the inspections to the FAA, Wichita ACO, Attn: Gary D. Park, Aerospace Engineer, 1801 Airport Road, Room 100; fax: (316) 946-4107; email: WICHITA-COS@FAA.GOV. Include the following information in addition to the undated Attachment (titled Wing Lower Main Spar Cap Inspection Report) to Cessna Single Engine Service Letter SEL-57-01, Revision 1, dated May 9, 2012. Please identify AD 2012-10-04 in the subject line if submitted through email.

(1) Hours TIS at time of inspection.

(2) Installed wing modifications.

(3) Approved gross weight increases.

(4) Extended low altitude operations (i.e., pipe line survey, surface spotting, sight-seeing, etc.)

(5) A description of any cracks detected.

(j) Credit for Actions Accomplished in Accordance With Previous Service Information

This paragraph provides credit for the actions required in paragraphs (g) and (h) of this AD if already done before June 5, 2012 (the effective date of this AD) following Cessna Single Engine Service Letter SEL-57-01, dated April 27, 2012.

(k) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Alternative Methods of Compliance (AMOCs)

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(m) Related Information

For more information about this AD, contact Gary D. Park, Aerospace Engineer, Wichita ACO, FAA, 1801 Airport Road, Wichita, KS 67209; phone: (316) 946-4123; fax: (316) 946-4107; email: WICHITA-COS@FAA.GOV.

(n) Material Incorporated by Reference

(1) You must use Cessna Single Engine Service Letter SEL-57-01, Revision 1, dated May 9, 2012, (includes the undated Attachment titled Wing Lower Main Spar Cap Inspection Report) to do the actions required by this AD, unless the AD specifies otherwise. The Director of the Federal Register approved the incorporation by reference (IBR) under 5 U.S.C. 552(a) and 1 CFR part 51.

(2) For service information identified in this AD, contact Cessna Aircraft Company, Customer Support Service, P.O. Box 7706, Wichita, Kansas 67277; telephone: (316) 517-5800; fax (316) 517-7271; Internet: www.cessnasupport.com.

(3) You may review copies of the referenced service information at the FAA, Small Airplane Directorate, 901 Locust, Kansas City, Missouri 64106. For information on the availability of this material at the FAA, call (816) 329-4148.

(4) You may also review copies of the service information that is incorporated by reference at the National Archives and Records Administration (NARA). For information on the availability of this material at NARA, call 202-741-6030, or go to: http://www.archives.gov/federal-register/cfr/ibr_locations.html.

Issued in Kansas City, Missouri, on May 11, 2012.
John Colomy,
Acting Manager, Small Airplane Directorate, Aircraft Certification Service.

[FR Doc. 2012-11944 Filed 5-18-12; 8:45 am]

BILLING CODE 4910-13-P